ENVIRONMENTAL PROTECTION AGENCY

40 CFR Part 52

[AZ 094-0027b; FRL-6916-3]

Approval and Promulgation of Implementation Plans; Arizona State Implementation Plan Revision, Coconino County, Mohave County, and Yuma County

AGENCY: Environmental Protection Agency (EPA).

ACTION: Proposed rule.

SUMMARY: EPA is proposing to approve revisions to the Coconino County, Mohave County, and Yuma County portions of the Arizona State Implementation Plan (SIP). These revisions concern the recision of all of the remaining defunct SIP rules from these counties. We are approving the recision of local rules that no longer regulate permitting procedures and various emission sources under the Clean Air Act as amended in 1990 (CAA or the Act).

DATES: Any comments on this proposal must arrive by June 20, 2001.

ADDRESSES: Mail comments to Andrew Steckel, Rulemaking Office Chief (AIR-4), U.S. Environmental Protection Agency, Region IX, 75 Hawthorne Street, San Francisco, CA 94105.

You may inspect copies of the submitted rule and EPA's technical support documents (TSDs) at our Region IX office during normal business hours. You may also see copies of the submitted rule at the following locations:

Environmental Protection Agency, Air Docket (6102), Ariel Rios Building, 1200 Pennsylvania Avenue, NW., Washington, DC 20460.

Arizona Department of Environmental Quality, 3033 North Central Avenue, Phoenix, AZ 85012.

FOR FURTHER INFORMATION CONTACT: Al Petersen, Rulemaking Office (AIR-4), Air Division, U.S. Environmental Protection Agency, Region IX, 75 Hawthorne Street, San Francisco, CA 94105, (415) 744-1135.

SUPPLEMENTARY INFORMATION: This proposal addresses the recisions of defunct SIP rules from Coconino County, Mohave County, and Yuma County. In the Rules and Regulations section of this Federal Register, we are approving the recision of these rules in a direct final action without prior proposal because we believe this SIP revision is not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: September 13, 2000.
Keith A. Takata,
Acting Regional Administrator, Region IX.

[Editorial note: This document was received at the Office of the Federal Register on May 15, 2001.]

[FR Doc. 01-12573 Filed 5-18-01; 8:45 am]

BILLING CODE 6560-50-P